DEPARTMENT OF COMMERCE

International Trade Administration

19 CFR Part 361

[Docket No. 210326-0072 ]

RIN 0625-AB18

Aluminum Import Monitoring and Analysis System: Stay and Delay of Compliance Date

AGENCY: Enforcement and Compliance, International Trade Administration, Department of Commerce.

ACTION: Final rule; stay.

SUMMARY: The U.S. Department of Commerce (Commerce) is delaying compliance with the final rule, entitled “Aluminum Import Monitoring and Analysis System,” by staying the regulations from March 29, 2021, until June 28, 2021. Commerce will release the public Aluminum Import Monitoring and Analysis (AIM) monitor on the AIM system website on March 29, 2021.

DATES: As of March 29, 2021, compliance with the final rule published December 23, 2020 at 85 FR 83804 and amended January 27, 2021 at 86 FR 7237 is delayed and 19 CFR part 361 is stayed until June 28, 2021. The public AIM monitor will be released on the AIM system website on March 29, 2021.

ADDRESSES: The AIM system website is https://www.trade.gov/aluminum. Commerce will release the public AIM monitor using publicly available data through this website on March 29, 2021. More information can be found in the Final Rule and at https://www.trade.gov/updates-aluminum-import-licensing. Commerce is offering virtual demonstrations of the public AIM monitor, which are available to the general public. Although the demonstrations will be completely virtual, Commerce will have a limited number of spots available for participation in the demonstrations. For specific dates and times of the demonstrations, and to participate in the demonstrations, please visit https://www.trade.gov/updates-aluminum-import-licensing.

FOR FURTHER INFORMATION CONTACT: Julie Al-Saadawi at (202) 482-1930 or Jessica Link at (202) 482-1411.

SUPPLEMENTARY INFORMATION: On December 23, 2020, Commerce published “Aluminum Import Monitoring and Analysis System,” (Final Rule) establishing the AIM system in part 361 that would be comprised of an aluminum import licensing program and a public AIM monitor, available through the AIM system website.¹ On January 4, 2021, Commerce launched the AIM system website (https://www.trade.gov/aluminum). The original effective date for part 361 was January 25, 2021, meaning that licenses would be required for all covered aluminum imports on or after this date.

¹ Aluminum Import Monitoring and Analysis System, 85 FR at 83804 (December 23, 2020) (Final Rule).

On January 27, 2021, Commerce published a notification delaying the effective date of the AIM system until March 29, 2021, and opening a 30-day comment period to solicit public comment, on the January 27 notification, that closed on February 26, 2021, on all aspects of the Final Rule and the AIM system.²

² Aluminum Import Monitoring and Analysis System: Delay of Effective Date, 86 FR 7237 (January 27, 2021).

Upon receipt and consideration of the public comment,³ Commerce has determined that it is appropriate to delay compliance with most aspects of part 361 and the AIM system by an additional ninety days, by staying part 361. This delay will allow Commerce time to finalize the license application system and to provide both the public and U.S. Customs and Border Protection (CBP) with sufficient advance notice of the new compliance date. In addition, the delay will allow Commerce to consider and respond, as appropriate, to the comments; Commerce intends to issue another notification addressing these comments prior to June 28, 2021.

³ These comments can be found by searching for the Final Rule (Docket No. ITA-2021-0001) on the Federal eRulemaking portal at http://www.regulations.gov.

Therefore, unless otherwise announced, compliance for the majority of part 361 and the AIM system will be effective on June 28, 2021, meaning that licenses will be required for all covered aluminum imports on or after this date. Additionally, the remaining portions of the regulations concerning the removal of the option to state “unknown” for certain fields on the aluminum license form will be effective on December 24, 2021, as stated in the relevant sections of part 361, unless otherwise announced. For further background and information, see the Final Rule. Further guidance on licenses already issued and the issuance of new licenses in the intervening period before June 28, 2021 will be provided on the AIM system website.

Although Commerce is delaying compliance with the majority of part 361 and the AIM system as described above, Commerce is moving forward with one aspect of the AIM system on March 29, 2021. Specifically, Commerce will release the public AIM monitor on the AIM system website on March 29, 2021. When released, the public AIM monitor will provide information on U.S. imports of aluminum from all countries by broad product categories in both value and volume measures. The public AIM monitor will initially only include publicly available import data, as the license information will not be available. Once the license collection begins, and Commerce has had sufficient time to review the license data, the public AIM monitor will report certain aggregate information on imports of aluminum product categories using both publicly available import data and data obtained from the aluminum licenses.

Releasing the public AIM monitor, while delaying compliance with the license application system, is consistent with the historical release of the early Steel Import Monitor and Analysis (SIMA) monitor. When SIMA was first launched in early 2003, an early version of the SIMA monitor was released with only public data.⁴ This provided the public some details about what the monitor may look like and created public interest in SIMA before the implementation of the license application system. Commerce finds it appropriate to adopt a similar approach in this instance for the AIM system.

⁴ Steel Import Licensing and Surge Monitoring, 67 FR 79845 (Dec. 31, 2002).

This is a significant rulemaking under Executive Order 12866 but it is not economically significant.

List of subjects in 19 CFR Part 361

Administrative practice and procedure, Business and industry, Imports, Reporting and recordkeeping requirements, Aluminum.

For the reasons stated in the preamble and under the authority of 13 U.S.C. 301(a) and 302, the Department of Commerce stays 19 CFR part 361 until June 28, 2021.

Dated: March 29, 2021.
Christian Marsh,
Acting Assistant Secretary for Enforcement and Compliance.

[FR Doc. 2021-06744 Filed 3-29-21; 4:15 pm]

BILLING CODE 3510-DS-P